DEPARTMENT OF COMMERCE

Foreign-Trade Zones Board

[B-06-2021]

Foreign-Trade Zone 240—Martinsburg, West Virginia; Withdrawal of Application for Reorganization Under Alternative Site Framework

Notice is hereby given of the withdrawal of the application submitted by the West Virginia Economic Development Authority, grantee of Foreign-Trade Zone 240, requesting authority to reorganize the zone under the alternative site framework. The application was docketed on February 4, 2021 (86 FR 8762, February 9, 2021). The withdrawal was requested by the applicant due to changed circumstances. The case has been closed without prejudice.

Dated: August 16, 2021.
Andrew McGilvray,
Executive Secretary.

[FR Doc. 2021-17856 Filed 8-19-21; 8:45 am]

BILLING CODE 3510-DS-P